POSTAL SERVICE

Privacy Act of 1974, System of Records

AGENCY: Postal Service.

ACTION: Notice of modification to existing systems of records.

SUMMARY: The purpose of this document is to publish notice of modifications to existing system of records USPS 110.010, Property Management-Accountable Property Records; system of records USPS 140.020, Postage-Postage Evidencing System Records; and system of records USPS 170.010, Operational Data Collection System-Workload/Productivity Management Records. System USPS 110.010 is amended to add contractors to the “Categories of Individuals” segment and to enhance the description of records covered. System USPS 140.020 is amended to further limit the categories of records covered. Finally, system USPS 170.010 is amended to update the title and address of the system manager.

DATES: Any interested party may submit written comments on the proposed amendments and additions. This proposal will become effective without further notice on July 26, 2000, unless comments received on or before that date result in a contrary determination.

ADDRESSES: Written comments on this proposal should be mailed or delivered to Finance Administration, United States Postal Service, 475 L'Enfant Plaza SW Room 8141, Washington DC 20260-5202.

Copies of all written comments will be available at the above address for public inspection and photocopying between 8 a.m. and 4:45 p.m., Monday through Friday.

FOR FURTHER INFORMATION CONTACT: Alberta McKay, (202) 268-4048.

SUPPLEMENTARY INFORMATION: This notice proposes amendments to three Postal Service Privacy Act systems of records. System USPS 110.010, Property Management-Accountable Property Records, historically has covered and continues to cover information collected to issue badges granting access to Postal Service buildings and facilities, as well as to issue other accountable property records. Individuals that are issued badges include both employees and contractors. A recent review of the description of system USPS 110.010, prompted by the installation of a new access control system, found that contractors were not included in the description of individuals covered by the system. This notice expands that section of the system notice and enhances other sections to better describe the maintenance of the records covered.

System USPS 140.020, Postage-Postage Evidencing System Records, was amended in the Federal Register on January 3 (65 FR 142-143) to make it clear that the system covers both information collected through traditional paper-based postage meter licensing, as well as information collected through implementation of new technology postage evidencing systems. The categories of records covered by the system were expanded at that time to include the collection of destination delivery point (ZIP+4) information. It has been determined that only destinating five-digit ZIP Code information is needed to accomplish the system purpose; consequently, the description of the categories of records section is amended to reflect this limited collection.

Finally, the name and address of the system manager has been updated in system of records 170.010, Operational Data Collection System-Workload/Productivity Management Records, as a result of agency restructuring.

For the above reasons, the Postal Service proposes amending these systems as shown below:

USPS 110.010

SYSTEM NAME:

Property Management-Accountable Property Records, 110.010.

* * * * *

Categories of Individuals Covered by the System:

[CHANGE TO READ:] Employees and contractors who have access to Postal Service buildings and facilities and/or who are assigned accountable property. Database also contains the following categories:

—Building Tenants

—Advisory Committee Members (MTAC)

—Board of Governors

—Union Officials

Categories of Records in the System:

[CHANGE TO READ:] Information needed to issue building access badges to employees and contractors. This information includes name, social security number, date of birth, home address, emergency contact name and telephone number, image (photograph); organization/office of assignment; employee's title and work number, supervisor's title and work number, and security badge issue information such as access level. The system also contains information controlling the issuance of accountable Postal Service property, such as equipment and controlled documents. That information includes name, social security number, equipment description, equipment serial numbers, and issuance date.

* * * * *

PURPOSE(S):

[CHANGE TO READ:] To ensure employee and building safety and security by controlling access to Postal Service buildings and facilities; and to protect Postal Service accountable property and equipment by controlling issuance.

* * * * *

Policies and Practices for Storing, Retrieving, Accessing, Retaining, and Disposing of Records in the System:

* * * * *

SAFEGUARDS:

[CHANGE TO READ:] Hard copy records and computers containing information within this system of records are located in buildings and/or areas with controlled access. Information within computer systems is protected by computer security technology including the use of logon IDs and passwords. Access to automated and hard copy records is given on an official need-to-know basis.

USPS 140.020

System Name:

Postage-Postage Evidencing System Records, 140.020.

* * * * *

Categories of Records in the System:

[CHANGE TO READ:] Customer name and address, change of address information, corporate business customer information (CBCIS) number, business profile information, estimated annual postage and annual percentage of mail by type, type of usage (customer, postal, or government), post office where mail is entered, license number, date of issuance, ascending and descending register values, device identification number, device model number, certificate serial number, amount and date of postage purchases, amount of unused postage refunded, contact telephone number, date, destinating five-digit ZIP Code and rate category of each indicium created, and transaction documents.

USPS 170.010

System Name:

Operations Data Collection Systems-Workload/Productivity Management Records, 170.010.

* * * * *

System Manager(S) and Address:

[CHANGE TO READ:] Senior Vice President Operations, United States Postal Service, 475 L'Enfant Plz SW, Washington DC 20260-2700.

(Real-Time Productivity Management System and Delivery Operations Information System)

Other Covered Systems—the department or facility head where such records are required.

Stanley F. Mires,
Chief Counsel, Legislative.

[FR Doc. 00-16008 Filed 6-23-00; 8:45 am]

BILLING CODE 7710-12-P